DEPARTMENT OF TRANSPORTATION

Federal Aviation Administration

14 CFR Part 39

[Docket No. 2002-NM-325-AD; Amendment 39-13759; AD 2004-16-03]

RIN 2120-AA64

Airworthiness Directives; Gulfstream Aerospace LP Model Galaxy and Model Gulfstream 200 Airplanes

AGENCY: Federal Aviation Administration, DOT.

ACTION: Final rule.

SUMMARY: This amendment adopts a new airworthiness directive (AD), applicable to certain Gulfstream Aerospace LP Model Galaxy and Model Gulfstream 200 airplanes, that requires a one-time detailed inspection of the wing flap actuators for proper bonding of the flap actuator fairings to the lower skin of the wings, and related corrective or preventative actions. These actions are necessary to prevent possible separation of the flap actuator fairings from the lower skin of the wings from causing possible damage to adjacent structural elements (such as the horizontal stabilizer), which could result in reduced controllability of the airplane. These actions are intended to address the identified unsafe condition.

DATES: Effective September 14, 2004.

The incorporation by reference of certain publications listed in the regulations is approved by the Director of the Federal Register as of September 14, 2004.

ADDRESSES: The service information referenced in this AD may be obtained from Gulfstream Aerospace Corporation, P.O. Box 2206, Mail Station D-25, Savannah, Georgia 31402. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Gulfstream Aerospace LP Model Galaxy and Model Gulfstream 200 airplanes was published in the Federal Register on April 29, 2004 (69 FR 23458). That action proposed to require a one-time detailed inspection of the wing flap actuators for proper bonding of the flap actuator fairings to the lower skin of the wings, and related corrective or preventative actions.

Comments

Interested persons have been afforded an opportunity to participate in the making of this amendment. No comments have been submitted on the proposed AD or on the determination of the cost to the public.

Clarification of Service Bulletin Issue Date

Although Gulfstream Aerospace LP Alert Service Bulletin 200-57A-161, Revision 1, dated November 7, 2002, shows November 5, 2002, as the date of the original issue of the service bulletin, the actual date of the original issue of the service bulletin is November 6, 2002. There are no other revisions of this service bulletin. We have revised Paragraph (d) of this AD to specify the original issue date of the service bulletin as November 6, 2002.

Conclusion

After careful review of the available data, including the comments noted above, the FAA has determined that air safety and the public interest require the adoption of the rule with the changes described previously. The FAA has determined that these changes will neither increase the economic burden on any operator nor increase the scope of the AD.

Cost Impact

The FAA estimates that 60 airplanes of U.S. registry will be affected by this AD, that it will take approximately 13 work hours per airplane to accomplish the required actions, and that the average labor rate is $65 per work hour. Required parts will be supplied free of charge by the manufacturer. Based on these figures, the cost impact of the AD on U.S. operators is estimated to be $50,700, or $845 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-16-03 Gulfstream Aerospace LP (Formerly Israel Aircraft Industries, Ltd.): Amendment 39-13759. Docket 2002-NM-325-AD.

Applicability: Model Galaxy and Model Gulfstream 200 airplanes, serial numbers 004 through 074 inclusive; certificated in any category.

Compliance: Required as indicated, unless accomplished previously.

To prevent possible separation of the flap actuator fairings from the lower skin of the wings from causing possible damage to adjacent structural elements (such as the horizontal stabilizer), which could result in reduced controllability of the airplane, accomplish the following:

Inspection

(a) Within 30 flight hours or 5 flight cycles after the effective date of this AD, whichever occurs earlier, perform a one-time detailed inspection of the wing flap actuators for proper bonding of the flap actuator fairings to the lower skin of the wings; in accordance with Part A of the Accomplishment Instructions of Gulfstream Aerospace LP Alert Service Bulletin 200-57A-161, Revision 1, dated November 7, 2002.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Reinforcement of Actuator Fairing Adhesive

(b) If the inspection required by paragraph (a) of this AD reveals either no separation or separation of the flap actuator fairings from the lower skin of the wings that is within the limits specified in Gulfstream Aerospace LP Alert Service Bulletin 200-57A-161, Revision 1, dated November 7, 2002, do paragraphs (b)(1) and (b)(2) of this AD.

(1) Prior to further flight, apply sealant around the edges of the fairings, in accordance with Part A of the Accomplishment Instructions of the service bulletin.

(2) Within 300 flight hours after performing paragraph (b)(1) of this AD, remove and reattach the flap actuator fairings in accordance with Part B of the Accomplishment Instructions of the service bulletin.

Removal and Reattachment of Actuator Fairings

(c) If the inspection required by paragraph (a) of this AD reveals separation of the flap actuator fairings from the lower skin of the wings that is outside the limits specified in Gulfstream Aerospace LP Alert Service Bulletin 200-57A161, Revision 1, dated November 7, 2002: Prior to further flight, remove and reattach the flap actuator fairings in accordance with Part B of the Accomplishment Instructions of the service bulletin.

Actions Accomplished Per Previous Issue of Service Bulletin

(d) Actions accomplished before the effective date of this AD per Gulfstream Aerospace LP Alert Service Bulletin 200-57A-161, dated November 6, 2002, are considered acceptable for compliance with corresponding actions specified in this AD.

Reporting Requirements

(e) Although the service bulletin referenced in this AD specifies to submit certain information to the manufacturer, this AD does not include such a requirement.

Alternative Methods of Compliance

(f) In accordance with 14 CFR 39.19, Manager, International Branch, ANM-116, FAA, is authorized to approve alternative methods of compliance for this AD.

Incorporation by Reference

(g) Unless otherwise specified by this AD, the actions shall be done in accordance with Gulfstream Aerospace LP Alert Service Bulletin 200-57A-161, Revision 1, dated November 7, 2002. This incorporation by reference was approved by the Director of the Federal Register in accordance with 5 U.S.C. 552(a) and 1 CFR part 51. Copies may be obtained from Gulfstream Aerospace Corporation, P.O. Box 2206, Mail Station D-25, Savannah, Georgia 31402. Copies may be inspected at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in Israeli airworthiness directive AD 57-02-10-15, dated October 31, 2002.

Effective Date

(h) This amendment becomes effective on September 14, 2004.

Issued in Renton, Washington, on July 27, 2004.
Kyle L. Olsen,
Acting Manager, Transport Airplane Directorate, Aircraft Certification Service.

[FR Doc. 04-17758 Filed 8-9-04; 8:45 am]

BILLING CODE 4910-13-P